DEPARTMENT OF ENERGY

Federal Energy Regulatory Commission

[Docket No. EC04-9-000, et al.]

Exelon Generating Company, LLC, et al.; Electric Rate and Corporate Filings

November 5, 2003.

The following filings have been made with the Commission. The filings are listed in ascending order within each docket classification.

1. Exelon Generation Company, LLC, AmerGen Energy Company, LLC, British Energy Investment Ltd.

[Docket No. EC04-9-000]

Take notice that on October 30, 2003, Exelon Generation Company, LLC (Exelon Generation), AmerGen Energy Company, LLC (AmerGen), and British Energy Investment Ltd. (BEIL and collectively, the Applicants) filed with the Federal Energy Regulatory Commission an application pursuant to Section 203 of the Federal Power Act for authorization to transfer indirect ownership of jurisdictional facilities and for expedited action. Applicants state that BEIL will transfer its 50 percent indirect ownership in AmerGen to Exelon Generation. Applicants further state that the transaction will have no adverse effect on competition, rates or regulation. Applicants request privileged treatment of certain material submitted with the filing.

Comment Date: November 20, 2003.

2. FPL Energy New Mexico Wind, LLC and FPL Energy American Wind, LLC

[Docket No. EC04-10-000]

Take notice that on October 30, 2003, pursuant to Section 203 of the Federal Power Act, FPL Energy New Mexico, LLC, and FPL Energy American Wind, LLC, on their own behalf and on behalf of their affected subsidiaries (jointly, the Applicants) filed a joint application for approval of an intracorporate reorganization.

Applicants state that a copy of the application has been served on the public utility commissions in the states where the facilities are located. The Applicants have requested waivers of the Commission's regulations so that the filing may become effective at the earliest possible date, but no later than December 1, 2003.

Comment Date: November 20, 2003.

3. Caledonia Generating, LLC, Cogentrix Energy Power Marketing, Inc., Cogentrix Lawrence County, LLC, Green Country Energy, LLC, Logan Generating Company, L.P., Pittsfield Generating Company, L.P., Quachita Power, LLC, Rathdrum Power, LLC, Southaven Power, LLC, Cogentrix Energy, Inc., GS Power Holdings, LLC

[Docket Nos. EC04-11-000, ER01-1383-003, ER95-1739-020, ER01-1819-002, ER99-2984-003, ER95-1007-016, ER98-4400-005, ER00-2235-002, ER99-3320-001, ER00-710-001, ER99-411-001, ER95-471-001, ER94-306-000, ER95-246-002, and ER00-922-001]

Take notice that on October 30, 2003, Caledonia Generating, LLC (Caledonia), Cogentrix Energy Power Marketing, Inc. (CEPM), Cogentrix Lawrence County, LLC (Cogentrix Lawrence), Green Country Energy, LLC (Green Country), Logan Generating Company, L.P. (Logan), Pittsfield Generating Company, L.P. (Pittsfield), Quachita Power, LLC (Quachita), Rathdrum Power, LLC (Rathdrum), and Southaven Power, LLC (Southaven) (together, Project Companies), Cogentrix Energy, Inc. (Cogentrix), and GS Power Holdings, LLC (GS Power Holdings) (collectively, Applicants) filed with the Federal Energy Regulatory Commission a joint application pursuant to Section 203 of the Federal Power Act and notice of change in status with respect to the transfer of indirect upstream membership interests in Project Companies from Cogentrix to GS Power Holdings.

Comment Date: November 20, 2003.

4. GenWest, LLC

[Docket No. EG04-9-000]

Take notice that on October 30, 2003, GenWest, LLC (GenWest) filed with the Commission an application for determination of exempt wholesale generator status pursuant to Part 365 of the Commission's regulations.

GenWest states that it will develop, own and operate a 590 MW electric generating facility located at Apex, Nevada, and sell electric energy exclusively at wholesale. GenWest's principal business offices are located at 400 North 5th Street, Phoenix, Arizona.

Comment Date: November 20, 2003.

5. Denver City Energy Associates, L.P.

[Docket No. ER97-4084-008]

Take notice that on October 17, 2003, Denver City Energy Associates, L.P. (DCE) submitted for filing its triennial market power analysis in compliance with the Commission's October 17, 1997 Order. DCE also filed with the Commission a notice of change in status in connection with the transfer of equity interests in DCE to EIF Mustangs Holdings I, LLC, a subsidiary of Energy Investors Funds Group.

Comment Date: November 14, 2003.

6. New England Power Pool

[Docket No. ER03-1290-001]

Take notice that on October 30, 2003, the New England Power Pool (NEPOOL) Participants and the New York Independent System Operator, Inc. (NYISO) supplemented their September 3, 2003 filing of an Emergency Energy Transactions Agreement (Agreement) between the NEPOOL Participants and NYISO: (1) to formally designate the Agreement as NEPOOL and NYISO Rate Schedules; and (2) to include the formal Notice of Cancellation of the transaction that the Agreement replaces. NEPOOL states that the supplement makes no substantive change to the original filing and the NEPOOL Participants and NYISO renew their request for a September 4, 2003 effective date for the Agreement.

NEPOOL states that copies of the filing were sent to same entities that received the original filing, which includes the governors and the electric utility regulatory agencies for New York and the six New England states which comprise the NEPOOL Control Area, and the New England Conference of Public Utilities Commissioners, Inc.

Comment Date: November 20, 2003.

7. Ameren Services Company

[Docket No. ER04-99-000]

Take notice that on October 30, 2003, Ameren Services Company (ASC) tendered for filing an unexecuted Service Agreement for Network Integration Transmission Service and an unexecuted Network Operating Agreement between Ameren Services and Ameren Energy Marketing Company (Service Agreement No. 583). Ameren Services states that the purpose of the Agreements is to permit Ameren Services to provide transmission service to Ameren Energy Marketing Company pursuant to Ameren's Open Access Tariff.

Comment Date: November 20, 2003.

8. Ameren Services Company

[Docket No. ER04-100-000]

Take notice that on October 30, 2003, Ameren Services Company (ASC) tendered for filing an unexecuted Service Agreement for Network Integration Transmission Service and an unexecuted Network Operating Agreement between Ameren Services and Ameren Energy Marketing Company (Service Agreement No. 582). Ameren Services asserts that the purpose of the Agreements is to permit Ameren Services to provide transmission service to Ameren Energy Marketing Company pursuant to Ameren's Open Access Tariff.

Comment Date: November 20, 2003.

9. Ameren Services Company

[Docket No. ER04-101-000]

Take notice that on October 30, 2003, Ameren Services Company (ASC) tendered for filing an unexecuted Service Agreement for Firm Point-to-Point Transmission Service between ASC and Ameren Energy. ASC asserts that the purpose of the Agreement is to permit ASC to provide transmission services to Ameren Energy pursuant to Ameren's Open Access Transmission Tariff.

Comment Date: November 20, 2003.

10. Portland General Electric Company

[Docket No. ER04-103-000]

Take notice that on October 30, 2003, Portland General Electric Company (PGE) tendered for filing Amendatory Agreement No. 1 to the 1997 Pacific Northwest Coordination Agreement (1997 PNCA).

PGE also states that a copy of the filing was served upon the parties to the 1997 PNCA.

Comment Date: November 20, 2003.

11. Midwest Independent Transmission System Operator, Inc.

[Docket No. ER04-106-000]

Take notice that on October 30, 2003, the Midwest Independent Transmission System Operator, Inc. (Midwest ISO) submitted for filing proposed revisions to Attachment P (List of Grandfathered Agreements) of the Midwest ISO Open Access Transmission Tariff (OATT), FERC Electric Tariff, Second Revised Volume No. 1 in order to reflect: (1) The addition or deletion of certain grandfathered agreements; (2) updated termination provisions of certain grandfathered agreements; (3) corrected Rate Schedules of certain grandfathered agreements; and (4) clean-up, in general, of its Attachment P. The Midwest ISO requests an effective date of October 31, 2003.

The Midwest ISO has also requested waiver of the service requirements set forth in 18 CFR 385.2010. Midwest ISO states it has electronically served a copy of this filing, with attachments, upon all Midwest ISO Members, Member representatives of Transmission Owners and Non-Transmission Owners, the Midwest ISO Advisory Committee participants, as well as all state commissions within the region. In addition, Midwest states that the filing has been electronically posted on the Midwest ISO's Web site at http://www.midwestiso.org under the heading “Filings to FERC” for other interested parties in this matter. The Midwest ISO will provide hard copies to any interested parties upon request.

Comment Date: November 20, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00250 Filed 11-14-03; 8:45 am]

BILLING CODE 6717-01-P